DEPARTMENT OF ENERGY

Federal Energy Regulatory Commission

[Project No. 10855-000]

Upper Peninsula Power Company; Notice of Availability of Environmental Assessment

September 17, 2009.

In accordance with the National Environmental Policy Act of 1969 and the Federal Energy Regulatory Commission's regulations, 18 CFR part 380, Commission staff have prepared an environmental assessment (EA) regarding Upper Peninsula Power Company's request to replace the penstock at the McClure development of the Dead River Hydroelectric Project (FERC No. 10855) located on the Dead River in Marquette County, Michigan.

The EA contains the Commission staff's analysis of the potential environmental effects of the proposed replacement of the McClure Penstock and concludes that the proposed penstock replacement, with appropriate environmental protective measures, would not constitute a major Federal action that would significantly affect the quality of the human environment.

Copies of the EA are available for review in the Public Reference Room 2-A of the Commission's offices at 888 First Street, NE., Washington, DC 20426. The EA may also be viewed on the Commission's Internet Web site (http://www.ferc.gov) using the “eLibrary” link. Enter the docket number excluding the last three digits in the docket number field to access the document. Additional information about the project is available from the Commission's Office of External Affairs, at (202) 502-6088, or on the Commission's Web site using the eLibrary link. For assistance with eLibrary, contact FERCOnlineSupport@ferc.gov or toll-free at (866) 208-3676; for TTY contact (202) 502-8659.

Kimberly D. Bose,
Secretary.

[FR Doc. E9-22996 Filed 9-23-09; 8:45 am]

BILLING CODE 6717-01-P